DEPARTMENT OF ENERGY

Federal Energy Regulatory Commission

[Project No. 503-048-ID]

Swan Falls Hydroelectric Project, Idaho Power Company; Notice of Teleconference

a. Date and Time of Meeting: Tuesday, May 24, 2011 at 10 a.m. (Mountain Time).

b. Place: By copy of this notice we are inviting all interested parties to attend a teleconference from their location.

c. FERC Contact: Dianne Rodman, (202) 502-6077: dianne.rodman@ferc.gov.

d. Purpose of the Meeting: Commission staff will be meeting with the staff of the U.S. Fish and Wildlife Service and Idaho Power Company as part of its on-going section 7 Endangered Species Act consultation efforts.

e. All local, state, and federal agencies, Indian tribes, and interested parties are hereby invited to listen in on the teleconference. The phone number and passcode to the teleconference will be provided upon a request made by interested parties to Dianne Rodman. All requests for the teleconference phone number and passcode must be made no later than 2:30 p.m. (Mountain Time), May 20, 2011.

Dated: May 6, 2011.
Kimberly D. Bose,
Secretary.

[FR Doc. 2011-11733 Filed 5-12-11; 8:45 am]

BILLING CODE 6717-01-P